DEPARTMENT OF COMMERCE

National Institute of Standards and Technology

Open Meeting of the Information Security and Privacy Advisory Board

AGENCY: National Institute of Standards and Technology, Commerce.

ACTION: Notice.

SUMMARY: The Information Security and Privacy Advisory Board (ISPAB) will meet Wednesday, October 26, 2016, from 9:00 a.m. until 5:00 p.m., Eastern Time, Thursday, October 27, 2016, from 9:00 a.m. until 5:00 p.m., Eastern Time, and Friday, October 28, 2016 from 9:00 a.m. until 12:00 p.m. Eastern Time. All sessions will be open to the public.

DATES: The meeting will be held on Wednesday, October 26, 2016, from 9:00 a.m. until 5:00 p.m., Eastern Time, Thursday, October 27, 2016, from 9:00 a.m. until 5:00 p.m., Eastern Time, and Friday, October 28, 2016 from 9:00 a.m. until 12:00 p.m. Eastern Time.

ADDRESSES: The meeting will be held in the West Square, Administration Building, at the National Institute of Standards Technology (NIST), 100, Bureau Drive, Gaithersburg, Maryland 20899. Please note admittance instructions under the SUPPLEMENTARY INFORMATION section of this notice.

FOR FURTHER INFORMATION CONTACT: Matthew Scholl, Information Technology Laboratory, NIST, 100 Bureau Drive, Stop 8930, Gaithersburg, MD 20899-8930, telephone: (301) 975-2941, Email address: mscholl@nist.gov.

SUPPLEMENTARY INFORMATION: Pursuant to the Federal Advisory Committee Act, as amended, 5 U.S.C. App., notice is hereby given that the Information Security and Privacy Advisory Board (ISPAB) will meet Wednesday, October 26, 2016, from 9:00 a.m. until 5:00 p.m., Eastern Time, Thursday, October 27, 2016, from 9:00 a.m. until 5:00 p.m., Eastern Time, and Friday, October 28, 2016 from 8:00 a.m. until 12:00 p.m. Eastern Time. All sessions will be open to the public. The ISPAB is authorized by 15 U.S.C. 278g-4, as amended, and advises the National Institute of Standards and Technology (NIST), the Secretary of Homeland Security, and the Director of the Office of Management and Budget (OMB) on information security and privacy issues pertaining to Federal government information systems, including thorough review of proposed standards and guidelines developed by NIST. Details regarding the ISPAB's activities are available at http://csrc.nist.gov/groups/SMA/ispab/index.html.

The agenda is expected to include the following items:

—Presentation on Modernizing Outdated and Vulnerable Equipment and Information Technology Act of 2016, S.3263, 114th Cong. or the MoveIT Act,

—Updates on OMB Circular A-130, Managing Information as a Strategic Resources,

—Updates on the President's Cybersecurity National Action Plan (CNAP),

—Presentation on the Cybersecurity Framework and the Government,

—Panel discussion on Information Sharing, Information Sharing and Analysis Organizations (ISAOs), and Continuous Diagnostics and Mitigation,

—Presentation on US Department of Homeland Security's Mobility Study,

—Panel discussion/presentation on National Telecommunications and Information Administration (NTIA) Internet of Things (IoT) report,

—Presentation/Discussion on Regulators Task Force,

—Updates on National Cyber Incident Response Planning, and

—Updates on NIST Computer Security Division.

Note that agenda items may change without notice. The final agenda will be posted on the Web site indicated above. Seating will be available for the public and media. Pre-registration is required to attend this meeting.

All visitors to the NIST site are required to pre-register to be admitted. Please submit your name, email address and phone number to Isabel Van Wyk by 5:00 p.m. Eastern Time, Tuesday, October 25, 2016. Non-U.S. citizens must also submit their country of citizenship, title, employer/sponsor, and address by 5:00 p.m. Eastern Time, Tuesday, October 18, 2016. Isabel Van Wyk's email address is isabel.vanwyk@nist.gov and her telephone number is 301-975-8371.

Also, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. For detailed information please contact Isabel Van Wyk at 301-975-8371 or visit: http://www.nist.gov/public_affairs/visitor/.

Public Participation: The ISPAB agenda will include a period of time, not to exceed thirty minutes, for oral comments from the public (Friday, October 28, 2016, between 10:00 a.m. and 10:30 a.m.). Speakers will be selected on a first-come, first served basis. Each speaker will be limited to five minutes. Questions from the public will not be considered during this period. Members of the public who are interested in speaking are requested to contact Matthew Scholl at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Kevin Kimball,
NIST Chief of Staff.

[FR Doc. 2016-23338 Filed 9-27-16; 8:45 am]

BILLING CODE 3510-13-P